DEPARTMENT OF THE INTERIOR

Bureau of Land Management

[LLNVB00000 L51010000.ER0000 LVRWF0900380 241A; 11-08807; MO#4500015810; TAS: 14X5017]

Notice of Availability of Record of Decision for the Tonopah Solar Energy, LLC, Crescent Dunes Solar Energy Project

AGENCY: Bureau of Land Management, Interior.

ACTION: Notice of Availability.

SUMMARY: The Bureau of Land Management (BLM) announces the availability of the Record of Decision (ROD) for the Tonopah Solar Energy Crescent Dunes Solar Energy Project Environmental Impact Statement (EIS). The Secretary of the Interior approved the ROD on December 20, 2010, which constitutes the final decision of the Department.

ADDRESSES: Copies of the ROD are available upon request from the BLM Tonopah Field Office, 1553 South Main Street, P.O. Box 911, Tonopah, Nevada 89049; and at the Battle Mountain District Office, 50 Bastian Road, Battle Mountain, Nevada 89820; or at the following Web site: http://www.blm.gov/nv/st/en/fo/battle_mountain_field.html. Copies of the ROD are also available for public inspection at the following locations in Nevada:

• BLM Nevada State Office, 1340 Financial Boulevard, Reno;

• BLM Battle Mountain District Office, 50 Bastian Road, Battle Mountain; and

• BLM Tonopah Field Office, 1553 South Main, Tonopah.

FOR FURTHER INFORMATION CONTACT: Timothy Coward, Renewable Energy Project Manager, telephone: (775) 482-7830; mailing address: BLM Tonopah Field Office, 1553 South Main Street, P.O. Box 911, Tonopah, Nevada 89049; or e-mail: Timothy_Coward@blm.gov.

SUPPLEMENTARY INFORMATION: The applicant, Tonopah Solar Energy, LLC, is authorized to construct the Crescent Dunes Solar Energy Project and other related project facilities, on approximately 2,250.27 acres of public lands with a nominal capacity of 110 megawatts. The Crescent Dunes Solar Energy Project is a solar facility using concentrated solar thermal power technology.

The project facility footprint will disturb approximately 1,620 acres of the project area and will include a solar field (consisting of up to 17,500 dual axis tracking heliostats mounted on concrete or steel foundations), a 653-foot central receiver tower, salt tanks, steam generation building and equipment, steam turbine and generator, water treatment facilities and evaporation ponds, evaporative cooling tower and air cooled condenser (combined to form a hybrid-cooling system), electrical equipment and buildings, heliostat assembly building, administration and operation building, an access road from Pole Line Road to the site, drainage and stormwater control facilities, and temporary construction facilities. Transmission infrastructure consists of a 5.6 mile-long 230 kV transmission line from the project area to the nearby Anaconda Moly Substation.

The Notice of Availability (NOA) for the Draft EIS analyzing impacts of the proposed project was published in the Federal Register on September 3, 2010 (75 FR 54177) for public review and comment. A total of 23 comment letters were received on the Draft EIS. The comments were incorporated, where appropriate, to clarify the analysis presented in the Final EIS. The NOA for the Final EIS was published in the Federal Register by the Environmental Protection Agency on November 19, 2010 (75 FR 70917) and the BLM on November 26, 2010 (75 FR 72836).

Three action alternatives were analyzed in addition to the No Action Alternative: the Proposed Action Alternative, Alternative 1, and Alternative 2. Alternative 2 is the BLM's preferred alternative.

Because this decision is approved by the Secretary of the Interior, it is not subject to administrative appeal [43 CFR 4.410(a)(3)].

Authority: 40 CFR 1506.6 and 1506.10

Robert V. Abbey,
Director, Bureau of Land Management.

[FR Doc. 2010-32432 Filed 12-23-10; 8:45 am]

BILLING CODE 4310-HC-P